DEPARTMENT OF COMMERCE

Bureau of Export Administration

Action Affecting Export Privileges; Federal Parts International, Inc.; Order

In the Matter of: Federal Parts International, Inc., 5455 Peachtree Industrial Blvd., Norcross, Georgia 30092, Respondent.

The Bureau of Export Administration, United States Department of Commerce (BXA), having initiated an administrative proceeding against Federal Parts International, Inc. (hereinafter referred to as Federal Parts) pursuant to section 13(c) of the Export Administration Act of 1979, as amended (50 U.S.C. app. secs. 2401-2420 (1994 & Supp. V. 1999) (The “Act”) ¹ and the Export Administration Regulations (currently codified at 15 CFR parts 730-774 (20012) (the “Regulations”),² based on allegations that, on two separate occasions, between on or about January 30, 1996 and on or about February 14, 1996, Federal Parts exported U.S.-origin auto parts from the United States to Iran in violation of § 787.6 of the former regulations; that, in connection with the January 30, 1996 shipment, Federal Parts violated the provisions of § 787.5(a) of the former regulations by making a false or misleading statement of material fact directly or indirectly to a United States government agency in connection with the preparation, submission, issuance or use or an export control document; that, on two separate occasions, on or about March 27, 1996 and on or about April 2, 1996, Federal Parts attempted to export from the United States to Iran U.S.-origin auto parts in violation of §§ 787.3(a) and 787.4(a) of the former regulations; and that on or about April 2, 1996, Federal Parts violated the provisions of § 785.5(a) of the former regulations by making false or misleading statements of material fact either directly to BXA or indirectly through any other person for the purpose of or in connection with the preparation, submission, issuance, use or maintenance or an export control document;

¹ From August 21, 1994 through November 12, 2000, the Act was in lapse. During that period, the President, through Executive Order 12924, which had been extended by successive Presidential Notices, the last of which was August 3, 2000 (3 CFR, 2000 Comp. 397 (2001)), continued the regulations then in effect under the International Emergency Economic Powers Act (50 U.S.C. 1701-1706 (1994 & Supp. IV 1999)) (IEEPA). On November 13, 2000, the Act was reauthorized and it remained in effect through August 20, 2001. Since August 21, 2001, the Act has been in lapse and the President, through Executive Order 13222 of August 17, 2001 (66 FR 44025 (August 22, 2001)), has continued the regulations in effect under IEEPA.

² The alleged violations occurred in 1996. The Regulations governing the violations at issue are found in the 1996 version of the Code of Federal Regulations (15 CFR parts 768-799 (1996)). Those regulations define the violations that BXA alleges occurred and are referred to hereinafter as the former regulations. Since that time, the Regulations have been reorganized and restructured; the restructured regulations establish the procedures that apply to this matter.

BXA and Federal Parts having entered into a Settlement Agreement pursuant to § 766.18(b) of the regulations whereby they agreed to settle this matter in accordance with the terms and conditions set forth therein, and the terms of the Settlement Agreement having been approved by me:

It is therefore ordered:

First, that a civil penalty of $50,000 is assessed against Federal Parts. Federal Parts shall pay $10,000 of the civil penalty to the U.S. Department of Commerce within 30 days from the date of entry of this Order. Payment of the remaining $40,000 shall be made in four equal, monthly installments of $10,000 beginning on the first day of the second month after the date of entry of this Order. Payment shall be made in the manner specified in the attached instructions.

Second, that, pursuant to the Debt Collection Act of 1982, as amended (31 U.S.C. 3701-3720E (1983 and Supp. V 1999)), the civil penalty owed under this Order accrues interest as more fully described in the attached Notice, and, if payment is not made by the due date specified herein, Federal Parts will be assessed, in addition to interest, a penalty charge and an administrative charge, as more fully described in the attached Notice.

Third, Federal Parts International, Inc., 5455 Peachtree Industrial Blvd., Norcross, Georgia 30092, (“the denied person”) and, when acting in behalf of it, all of its successors or assigns, officers, representatives, agents and employees, may not, for a period of 10 years from the date of this Order, participate, directly or indirectly, in any way in any transaction involving any commodity, software or technology (hereinafter collectively referred to as item) exported or to be exported from the United States that is subject to the EAR, or in any other activity subject to the regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the regulations.

Fourth, that no person may, directly or indirectly, do any of the following:

A. Export or reexport to or on behalf of the denied person any item subject to the Regulations;

B. Take any action that facilitates the acquisition or attempted acquisition by the denied person of the ownership, possession, or control of any item subject to the Regulations that has been or will be exported from the Untied States, including financing or other support activities related to a transaction whereby the denied person acquires or attempts to acquire such ownership, possession or control;

C. Take any action to acquire from or to facilitate the acquisition or attempted acquisition from the denied person of any other subject to the EAR that has been exported from the United States;

D. Obtain from the denied person in the United States any item subject to the regulations with knowledge or reason to know that the item will be, or is intended to be, exported from the United States; or

E. Engage in any transaction to service any item subject to the Regulations that has been or will be exported from the United States and which is owned, possessed or controlled by the denied person, or service any item, of whatever origin, that is owned, possessed or controlled by the denied person if such service involves the use of any item subject to the regulations that has been or will be exported from the United States. For purposes of this paragraph, servicing means installation, maintenance, repair, modification or testing.

Fifth, that after notice and opportunity for comment as provided in § 766.23 of the regulations, any person, firm, corporation, or business organization related to Federal Parts by affiliation, ownership, control, or position of responsibility in the conduct of trade or related services may also be subject to the provisions of this Order.

Sixth, that this Order does not prohibit any export, reexport, or other transaction subject to the regulations where the only items involved that are subject to the regulations are the foreign-produced direct product of U.S.-origin technology.

Seventh, that a copy of this Order shall be delivered to the United States Coast Guard ALJ Docketing Center, 40 Gay Street, Baltimore, Maryland 21202-4022, notifying that office that this case is withdrawn from adjudication, as provided by § 766.18(b) of the regulations.

Eighth, that the Charging Letter, the Settlement Agreement, and this Order shall be made available to the public.

This Order, which constitutes the final agency action in this matter, is effective immediately.

Entered this 5th day of February, 2002.
Michael J. Garcia.
Assistant Secretary for Export Enforcement.

[FR Doc. 02-3453 Filed 2-12-02; 8:45 am]

BILLING CODE 3510-DT-M